DEPARTMENT OF AGRICULTURE

Forest Service

Tongass National Forest, Admiralty National Monument, Juneau, Alaska; Notice of Intent To Prepare an Environmental Impact State To Address the Environmental Effects and Necessary Mitigation Measures for the Construction, Maintenance, and Operation of the Angoon Hydroelectric Project on Admiralty Island, in Southeast Alaska

AGENCY: Forest Service, USDA.

ACTION: Notice of intent to prepare an environmental impact statement.

SUMMARY: Pursuant to section 102(2)(C) of the National Environmental Policy Act of 1969, the USDA Forest Service, Tongass National Forest, will prepare an environmental impact statement (EIS) to address the environmental effects and necessary mitigation measures for the construction, maintenance, and operation of the Angoon Hydroelectric Project on Admiralty Island, in Southeast Alaska.

The City of Angoon is the only permanent community on Admiralty Island; it is approximately 60 air miles southwest of Juneau, Alaska. The project are includes the lower 8,500 feet of Thayer Creek and the area between Thayer Creek and the City of Angoon, located approximately 6 miles to the south. In addition, the project area includes an underwater crossing of Kootznoowoo Inlet for a transmission line. All project facilities, except for the underwater transmission line crossing Kootznoowoo Inlet and the terminus in Angoon, would be located on National Forest System lands. The project area includes portions of Cooper River Meridian. T.49S, R67E, and T.50S, R67E.

DATES: Comments will be accepted throughout the EIS process; to be most useful during the analysis, however, comments should be received in writing on or before December 3, 2004. The draft environmental impact statement is expected in May 2005, and the final environmental impact statement is expected in August 2005.

ADDRESSES: Send written comments to Susan Marthaller, District Ranger, Admiralty National Monument, 8461 Old Dairy Road, Juneau, Alaska, 99801 or email to smarthaller@fs.fed.us.

FOR FURTHER INFORMATION CONTACT: Susan Marthaller, District Ranger, Admiralty National Monument, 8461 Old Dairy Road, Juneau, Alaska, 99801; phone 907-790-7472; fax 907-586-8795 or email to smarthaller@fs.fed.us.

SUPPLEMENTARY INFORMATION: The City of Angoon has some of the highest electric rates in Alaska. The Alaska National Interest Lands Conservation Act of 1980 (ANILCA) section 506(a)(3)(B) granted Kootznoowoo, Inc., the village corporation of Angoon, “the right to develop hydroelectric resources on Admiralty Island within township 49 south, range 67 east, and township 50 south, range 67 east, Cooper River Base and Meridian, subject to such conditions as the Secretary of Agriculture shall prescribe for the protection of water, fishery, wildlife, recreational, and scenic values of Admiralty Island.” ANILCA also recognized the economic and cultural needs and expectations associated with Kootznoowoo, Inc., (ANILCA Sec. 506(a)(3)(B).

Consultants for Kootznoowoo, Inc. completed the Angoon Hydroelectric Project Feasibility Evaluation Report in march 2000 (HDR Alaska 2000). The proposed operations are subject to approval of a Plan of Operations under 36 CFR, part 228, which is intended to ensure that adverse environmental effects on National Forest System lands and resources are minimized.

Purpose and Need for Action

The purpose and need for the Angoon Hydroelectric Project EIS is to determine how to develop the project while protecting the resources of Admiralty Island National Monument. ANILCA granted Kootznoowoo, INC the right to develop the hydroelectric project subject to mitigations prescribed by the Forest Service for protection of water, fishery, wildlife, recreational and scenic values of Admiralty Island.

Kootznoowoo, Inc., sent a letter to the Regional Forester on November 19, 2003, requesting that the Forest Service begin the NEPA work for the Angoon Hydroelectric Project. More recently, on April 21, 2004, Kootznoowoo, Inc., submitted an application asking for Forest Service authorization for the project.

Kootznoowoo, Inc., the City of Angoon, and the Angoon Community Association are pursuing funding to develop this hydroelectric project with the expectation that it would reduce the cost of power generation in Angoon and result in lower electric rates for Angoon residents. The project is expected to benefit the local economy by creating construction jobs and providing sufficient power for future growth of the community.

Proposed Action

The Forest Service Proposed Action is to authorize, through special use permits and easements, the construction and operation of a run-of-river hydroelectric facility on Thayer Creek. “Run-of-river” refers to operations in which the hydroelectric power facility uses only the water that is available in the natural flow of the river. Under normal conditions, run-of-river facilities involve little or not water storage, and power generation fluctuates with the stream flow. Major improvements associated with the 1,000-kilowatt hydroelectric power facility include the following:

1. Port facilities located 1.8 miles south of the outlet of Thayer Creek consisting of mooring buoys and a garage for operation and maintenance vehicles.

2. A diversion dam, approximately 10 feet high, on Thayer Creek, about 1.6 miles up from the outlet.

3. An intake structure at the diversion dam.

4. A pipeline, approximately 1.2 miles long, from the intake structure to the powerhouse.

5. A penstock, about 510 feet long, from the pipeline to the powerhouse.

6. A surge tank near the junction of the pipeline and penstock.

7. A power plant structure, about 30 feet by 68 feet and 25 feet high, to house two generating units.

8. Three access roads including a 1.9-mile road from the port facilities to the power plant, a 1.4-mile road from near the powerhouse to the diversion dam/intake structure, and an estimated 4.2-mile road from the port facilities to Kootznoowoo Inlet.

9. A transmission line consisting of two overhead segments, 1.9 miles and 4.2 miles, and one submarine crossing, approximately 0.9 mile. The three segments would extend from the powerhouse to the port facilities, from the port facilities to Kootznoowoo Inlet, and last, from the northern shore of Kootznoowoo Inlet to the City of Angoon, on the opposite shore.

In addition, various temporary facilities, including a barge landing, staging areas, and a construction camp, would be needed during project construction. The Feasibility Evaluation Report describes existing Angoon electrical loads and resources and includes the development schedule and an economic analysis.

The facilities, roads, and transmission lines would be designed to meet Forest Plan standards and guidelines with an emphasis on:

1. Scenic visibility standards

2. Minimium impact to beach fringe and wetlands

A plan, subject to approval by the Forest Service and agencies with permitting jurisdiction, would be required before implementation to set performance criteria for achieving objectives related to beach fringe and estuary, scenery, and heritage resources.

Possible Alternatives

In addition to the Proposed Action and No Action, alternatives currently under consideration for analysis in the EIS include: subterranean/submarine transmission line between Thayer Creek and Angoon.

Responsible Official

Forrest Cole, Forest Supervisor, Tongass National Forest, 648 Mission Street, Federal Building, Ketchikan, AK 99901-6591.

Nature of Decision To Be Made

The decision to be made by the Forest Supervisor of the Tongass National Forest is under what terms and conditions to authorize, through special use permits and easements, the construction and operation of a hydroelectric facility on Thayer Creek as described above. The Forest Supervisor will also decide what mitigations, if any, would be necessary to implement the action.

Scoping Process

Public scoping meetings are planned in Angoon at the Community Services Building from 6 p.m. until 9 p.m. on Thursday, October 14, 2004, and in Juneau at Centennial Hall from 7 p.m. until 9 p.m. on Friday, October 15, 2004.

Preliminary Issues

Potentially significant issues identified to date include potential effects on the following: (1) Consistency with wilderness management objectives, (2) visual resources.

Permits or Licenses Required

In an order issued January 23, 2001, the Federal Energy Regulatory Commission (FERC) found that a license would not be required for this project. FERC concluded that the Commission lacks jurisdiction to issue a license for the proposed project due to its location in a National Monument within the National Forest System. Because of this, the Forest Service is the lead agency for this project, and a Forest Service special use permit would be the primary agency authorization for the project. Permits from other federal and state agencies would also be required for specific portions of the project. Additional permits or licenses may include the following:

1. U.S. Army Corps of Engineers

—Approval of discharge of dredged or fill material into the waters of the United States under Section 404 of the Clean Water Act;

—Approval of the construction of structures or work in navigable waters of the United States under Section 10 of the Rivers and Harbors Act of 1899;

2. Environmental Protection Agency

—National Pollutant Discharge Elimination System (402) Permit;

—Review Spill Prevention Control and Countermeasure Plan;

3. State of Alaska, Department of Natural Resources

—Tideland Permit and Lease or Easement;

4. State of Alaska, Department of Environmental Conservation

—Solid Waste Disposal Permit;

—Certification of Compliance with Alaska Water Quality Standards (401 Certification)

Comment Requested

This notice of intent initiates the scoping process, which guides the development of the environmental impact statement.

Early Notice of Importance of Public Participation in Subsequent Environmental Review

A draft environmental impact statement (Management Bulletin number R10-MB-528) will be prepared for comment. The comment period on the draft environmental impact statement will be 45 days from the date the Environmental Protection Agency publishes the notice of availability in the Federal Register.

The Forest Service believes, at this early stage, it is important to give reviewers notice of several court rulings related to public participation in the environmental review process. First, reviewers of draft environmental impact statements must structure their participation in the environmental review of the proposal so that it is meaningful and alerts an agency to the reviewer's position and contentions. Vermont Yankee Nuclear Power Corp. v. NRDC, 435 U.S. 519, 553 (1978). Also, environmental objections that could be raised at the draft environmental impact statement stage but that are not raised until after completion of the final environmental impact statement may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the 45-day comment period so that substantive comments and objections are made available to the Forest Service at a time when it can meaningfully consider them and respond to them in the final environmental impact statement.

To assist the Forest Service in identifying and considering issues and concerns on the proposed action, comments on the draft environmental impact statement should be as specific as possible. It is also helpful if comments refer to specific pages or chapters of the draft statement. Comments may also address the adequacy of the draft environmental impact statement or the merits of the alternatives formulated and discussed in the statement.

Reviewers may wish to refer to the Council on Environmental Quality Regulations for implementing the procedural provisions of the National Environmental Policy Act at 40 CFR 1503.3 in addressing these points.

Comments received, including the names and addresses of those who comment, will be considered part of the public record on this proposal and will be available for public inspection.

(Authority: 40 CFR 1501.7 and 1508.22; Forest Service Handbook 1909.15, Section 21)

Dated: October 4, 2004.
Forest Cole,
Forest Supervisor.

[FR Doc. 04-22969 Filed 10-12-04; 8:45 am]

BILLING CODE 3410-11-M